DEPARTMENT OF AGRICULTURE

Cooperative State Research, Education, and Extension Service

Alaska Native-Serving and Native Hawaiian-Serving Institutions Education Grants Program for Fiscal Year 2001; Request for Proposals and Request for Stakeholder Input

AGENCY: Cooperative State Research, Education, and Extension Service, USDA.

ACTION: Notice of request for proposals and request for stakeholder input.

SUMMARY: The Cooperative State Research, Education, and Extension Service (CSREES) is announcing the Alaska Native-Serving and Native Hawaiian-Serving Institutions Education Grants Program for Fiscal Year (FY) 2001. Proposals are hereby requested from eligible institutions as identified herein for consideration of grant awards.

By this notice, CSREES also requests stakeholder input from any interested party regarding the FY 2001 Alaska Native-Serving and Native Hawaiian-Serving Institutions Education Grants Program Request for Proposals (RFP) for use in development of any future RFPs for this program.

DATES: Proposals must be received on or before 5:00 P.M. July 6, 2001. Proposals received after this date will not be considered for funding.

Comments regarding this RFP are invited for six months from the issuance of this notice. Comments received after that date will be considered to the extent practicable.

ADDRESSES: Hand-delivered proposals (brought in person by the applicant or through a courier service) must be delivered to the following address: Alaska Native-Serving and Native Hawaiian-Serving Institutions Education Grants Program; “ Proposal Services Unit; Office of Extramural Programs; Cooperative State Research, Education, and Extension Service; U.S. Department of Agriculture; Room 1307, Waterfront Centre; 800 9th Street S.W.; Washington, D.C. 20024. The telephone number is (202) 401-5048. Proposals transmitted via a facsimile (fax) machine or via e-mail will not be accepted.

Proposals submitted through the U.S. Postal Service should be sent to the following address: Alaska Native-Serving and Native Hawaiian-Serving Institutions Education Grants Program; “ Proposal Services Unit; Office of Extramural Programs; Cooperative State Research, Education, and Extension Service; U.S. Department of Agriculture; STOP 2245; 1400 Independence Avenue S.W., Washington, D.C. 20250-2245.

Written stakeholder comments should be submitted by mail to: Policy and Program Liaison Staff; Office of Extramural Programs; USDA-CSREES; STOP 2299; 1400 Independence Avenue S.W.; Washington, D.C. 20250-2299; or via e-mail to: RFP-OEP@reeusda.gov. (This e-mail address is intended only for receiving stakeholder comments regarding this RFP, and not for requesting information or forms.) In your comments, please state that your are responding to the FY 2001 Alaska Native-Serving and Native Hawaiian-Serving Institutions Education Grants Program.

FOR FURTHER INFORMATION CONTACT: Dr. Jeffrey L. Gilmore, Higher Education Programs; Cooperative State Research, Education, and Extension Service; U.S. Department of Agriculture; STOP 2251; 1400 Independence Avenue S.W.; Washington, D.C. 20250-2251; telephone: (202) 720-1973; e-mail: jgilmore@reeusda.gov.

Stakeholder Input: CSREES is requesting comments regarding this solicitation of applications from any interested party. In your comments, please include the name of the program and the fiscal year RFP to which you are responding. These comments will be considered in the development of the next RFP for the program. Such comments will be used in meeting the requirements of section 103(c)(2) of the Agricultural Research, Extension, and Education Reform Act of 1998, 7 U.S.C. 7613(c). Comments should be submitted as provided in the “Addresses” and “Dates” portions of this Notice.

SUPPLEMENTARY INFORMATION:

Table of Contents

A. Legislative Authority

B. Catalog of Federal Domestic Assistance

C. Purpose of the Program

D. Eligible Institutions

E. Demonstration or Certification of Eligibility

F. Available Funds

G. Scope of Activities to be Funded

H. Proposal Submission Limitations

I. Project Duration

J. Matching Requirements

K. Number and Size of Awards

L. Indirect Costs

M. Types of Proposals

N. Maximum Number of Grants or Sub-Grants Per Institution

O. Proposal Evaluation

P. How to Obtain Application Materials

Q. What to Submit

R. Number of Copies to Submit

S. Where and When to Submit

T. Acknowledgment of Proposals

U. Intent to Submit a Proposal

V. Other Federal Statutes and Applicable Regulations

A. Legislative Authority

Authority for this program is contained in section 759 of Public Law 106-78, the FY 2000 “Agriculture, Rural Development, Food and Drug Administration, and Related Agencies Appropriations Act” (7 U.S.C. 3242). In the FY 2001 “Agriculture, Rural Development, Food and Drug Administration, and Related Agencies Appropriations Act” (Pub. L. 106-387), Congress appropriated $3,000,000 for a program of noncompetitive grants, to be awarded on an equal basis, to Alaska Native-Serving and Native Hawaiian-Serving Institutions to carry out higher education programs in the food and agricultural sciences.

B. Catalog of Federal Domestic Assistance

This program is listed in the Catalog of Federal Domestic Assistance under No. 10.228, Alaska Native-Serving and Native Hawaiian-Serving Institutions Education Grants Program.

C. Purpose of the Program

Grants will be made to eligible institutions for the purpose of promoting and strengthening the ability of Alaska Native-Serving Institutions and Native Hawaiian-Serving Institutions to carry out higher education programs in the food and agricultural sciences. Projects funded by this program in FY 2001 must be aimed at persons enrolled in or teaching at an institution of higher education. Grant funds also may be used for other education programs that have a direct and explicit connection to higher education, such as recruitment, mentoring, and support programs for under-represented students at the high school level in order to enhance education equity and prepare them for advanced study at the collegiate level and for careers related to the food, agricultural, and natural resource systems of the United States.

The use of grant funds to plan, acquire, or construct a building or facility is not allowed under this program. With prior approval, and in accordance with the cost principles set forth in OMB Circular No. A-21, some grant funds may be used for minor alterations, renovations, or repairs deemed necessary to retrofit existing teaching spaces in order to carry out a funded project. However, requests to use grant funds for such purposes must demonstrate that such expenditures are essential to achieving the major purpose for which the grant request is made.

Note that in FY 2001, research and community development projects will not be supported.

D. Eligible Institutions

Only public or private, nonprofit Alaska Native-Serving and Native Hawaiian-Serving Institutions of higher education that meet the definitions of Alaska Native-Serving Institution or Native Hawaiian-Serving Institution established in Title III, Part A of the Higher Education Act of 1965, as amended (20 U.S.C. section 1059d.) are eligible institutions under this program. Only individual institutions, including independent branch campuses, may apply for grant awards under this program. A higher education system, foundation, or district may not apply on behalf of individual institutions. An “independent branch campus” means a unit of a 2-year or 4-year institution of higher education that is geographically apart from the main campus, is permanent in nature, offers courses for credit and programs leading to an associate or bachelor's degree, and is autonomous to the extent that it has its own faculty and administrative or supervisory organization and its own budgetary and hiring authority.

E. Demonstration or Certification of Eligibility

At the time of application, each institution will be required to demonstrate or certify that it is an eligible institution under this program.

If an institution has received a “Designation as an Eligible Institution” letter for FY 2001 funding under the Title III, Part A, Alaska Native-Serving Institutions Program or the Native Hawaiian-Serving Institutions Program from the U.S. Department of Education, the institution may submit a copy of the letter along with its application to satisfy the demonstration of eligibility requirement.

If an institution currently has a Title III, Part A grant from the U.S. Department of Education that does not end prior to September 30, 2001, the institution may submit a copy of the “Notice of Award” letter for that grant along with its application to satisfy the demonstration of eligibility requirement.

Otherwise, an institution must submit a letter, signed by the institution's “authorized organizational representative” (AOR) certifying that it meets the requirements of an Alaska Native-Serving Institution or Native Hawaiian-Serving Institution as defined in the Higher Education Act of 1965, as amended (20 U.S.C. 1059d.). The institution's AOR is defined to mean the president, or chief executive officer or other designated official of the applicant organization, who has the authority to commit the resources of the organization. The AOR must certify that:

(1) The institution, or parent institution in the case of an independent branch campus, is legally authorized by the State in which it is located to provide an educational program for which it awards an associate's or bachelor's degree, or that it is a junior or community college;

(2) The institution, or parent institution in the case of an independent branch campus, is accredited by a nationally recognized accrediting agency or association determined by the Secretary of Education to be a reliable authority as to the quality of training offered, or making reasonable progress toward such accreditation;

(3) At least 50 percent of enrolled degree students are receiving need-based assistance under Title IV of the Higher Education Act, or that a substantial percentage of students are receiving Pell Grants in comparison with the percentage of students receiving Pell Grants at all similar institutions (institution of higher education, or junior or community college);

(4) Unless waived by the Secretary of Education, the average educational and general expenditures per full-time equivalent undergraduate student are low in comparison with the average educational and general expenditures per full-time equivalent student at institutions that offer similar instruction; and

(5) For an Alaska Native-Serving Institution, at the time of application, it has an enrollment of undergraduate students that is at least 20 percent Alaska Native students (where the term “Alaska Native” has the meaning given the term in section 9308 of the Elementary and Secondary Education Act of 1965 [20 U.S.C. 7938]); or

(6) For a Native Hawaiian-Serving Institution, at the time of application, it has an enrollment of undergraduate students that is at least 10 percent Native Hawaiian students (where the term “Native Hawaiian” has the meaning given the term in section 9212 of the Elementary and Secondary Education Act of 1965 [20 U.S.C. 7912]).

F. Available Funds

The $3,000,000 appropriated for FY 2001, is reduced by $6,600 to reflect the 0.22 percent government-wide recission, and $119,736 is retained by the Cooperative State Research, Education, and Extension Service (CSREES) for Federal Administration costs, leaving $2,873,664 for grant awards. Of this amount, half will be awarded non-competitively to eligible institutions in Alaska ($1,436,832) and half will be awarded non-competitively to eligible institutions in Hawaii ($1,436,832). CSREES has determined that the amounts available to each State will be allocated equally to all eligible institutions that submit grant applications in response to this notice.

G. Scope of Activities To Be Funded

Institutions receiving funds under this program must use the funds for the purpose of promoting and strengthening the abilities of Alaska Native-Serving or Native Hawaiian-Serving Institutions to carry out higher education programs in the food and agricultural sciences. CSREES intends this program to address higher education needs, as determined by each institution, within a broadly defined arena of food and agricultural sciences-related disciplines.

Food and agricultural sciences higher education programs are defined to include academic programs in agriculture, food and fiber, renewable natural resources, forestry, aquaculture, veterinary medicine, family and consumer sciences, home economics, nutrition and dietetics, and other higher education activities and fields of study related to the production, processing, marketing, distribution, conservation, utilization, consumption, and development of food and agriculturally related products and services.

Grants shall be used:

(1) To support the activities of consortia of Alaska Native-Serving or Native Hawaiian-Serving Institutions to enhance educational equity for under represented students;

(2) To strengthen institutional education capacities, including libraries, curriculum, faculty, scientific instrumentation, instruction delivery systems, and student recruitment and retention, in order to respond to identified State, regional, national, or international educational needs in the food and agriculture sciences;

(3) To attract and support undergraduate and graduate students from under represented groups in order to prepare them for careers related to the food, agricultural, and natural resource systems of the United States, beginning with the mentoring of students at the high school level, and continuing with the provision of financial support for students through their attainment of a doctoral degree; or

(4) To facilitate cooperative initiatives between two or more Alaska Native-Serving or Native Hawaiian-Serving Institutions, or between Alaska Native-Serving or Native Hawaiian-Serving Institutions and units of State government or the private sector, to maximize the development and use of resources, such as faculty, facilities, and equipment, to improve food and agricultural sciences teaching programs.

H. Proposal Submission Limitations

Each institution may submit one application for funding.

I. Project Duration

A project proposal may request funding for a project period from 12 months up to 36 months duration (from one to three years).

J. Matching Requirement

CSREES encourages, but does not require, non-Federal matching support for this program. Documentation of matching support is neither required nor requested.

K. Number and Size of Awards

The number of grants awarded in FY 2001, and the amount of funds available to each institution in FY 2001, will depend on the number of institutions submitting grant applications in response to this notice. If all institutions currently eligible for Title III, Part A grants from the U.S. Department of Education submit acceptable applications to this program, CSREES estimates it will make 19 or 20 awards, one to each eligible institution, of $140,000 to $150,000 each. Application budgets should reflect these estimates.

L. Indirect Costs

Indirect costs are allowable costs under this program. The applicant should use the institution's approved negotiated instruction indirect cost rate (or research rate if there is no negotiated instruction rate). An institution may elect and is encouraged to request, commensurate with planned grant activities, an amount less than the full negotiated indirect cost rate.

M. Types of Proposals

An eligible institution or independent branch campus may submit a “regular grant proposal” for project activities to be undertaken principally on behalf of its own students or faculty, and to be managed primarily by its own personnel. CSREES estimates that awards for a regular grant proposal will be in the range of $140,000 to $150,000 each. Budget forms submitted with grant applications should reflect this estimate.

To facilitate inter-institutional cooperation and collaborative initiatives, two or more eligible institutions within a State may form a consortium and submit a “consortium grant proposal.” In such cases, one institution is to be designated as the “lead institution.” The lead institution will receive the award on behalf of all the consortium members and will be responsible for managing the grant. The other consortium members will be sub-grantees of the primary award. All consortium members must be eligible institutions under this program. A consortium grant proposal must contain a separate plan of work and a separate budget for each consortium member, as well as an overall project plan of work and overall budget from the lead institution. A consortium project will be awarded grant funds in proportion to the number of consortium members (e.g., approximately $140,000 to $150,000 times the number of institutions), and each consortium member is to receive funds on an equal basis. Budget forms should reflect these requirements and estimates.

N. Maximum Number of Grants or Sub-Grants Per Institution

Only one grant may be awarded to any single institution or eligible branch campus under the Alaska Native-Serving and Native Hawaiian-Serving Institutions Education Grants Program. This ceiling includes sub-grant awards made under a consortium arrangement (i.e., an institution may not participate as a sub-grantee on a consortium grant and also receive a regular grant on its own). Individuals may participate in multiple grant projects and may be compensated through multiple subcontracts for consultant services.

O. Proposal Evaluation

Although project grants will be awarded non-competitively, all proposed projects will be reviewed by CSREES to determine whether the project plan of work is consistent with the guidelines contained in this notice. Each proposed project also will be evaluated for its technical merit by CSREES staff and by expert educators and scientists from other Federal agencies as needed. CSREES staff will consider the following criteria and weights when evaluating the technical merit of the proposals submitted:

Potential for Advancing the Quality of Education—20 Points

This criterion is used to assess the likelihood that the project will have an impact on the quality of food and agricultural sciences higher education by promoting and strengthening institutional capacities to meet clearly delineated needs. Elements include identification of needs, justification for the project, building institutional capacity, advancing education equity, continuation plans, innovation, multidisciplinary focus, and expected products and results.

Proposed Approach—35 Points

This criterion relates to the soundness of the proposed approach and includes objectives, plan of operation, timetable, evaluation and dissemination plans, and partnerships and collaborative efforts.

Key Personnel—20 Points

This criterion relates to the adequacy of the number and qualifications of the key persons who will carry out the project.

Institutional Commitment and Resources—15 Points

This criterion relates to the institution's commitment to the project and the adequacy of institutional resources available to carry out the project.

Budget and Cost-Effectiveness—10 Points

This criterion relates to the extent to which the total budget adequately supports the project and is cost-effective. Elements considered include the necessity and reasonableness of costs to carry out project activities and achieve project objectives; the appropriateness of budget allocations between the applicant and any collaborating institution(s); the adequacy of time committed to the project by key project personnel; and the degree to which the project maximizes the use of limited resources, optimizes educational value for the dollar, achieves economies of scale, leverages additional funds, includes sound quality-control measures, and focuses expertise and activity on targeted educational areas.

P. How To Obtain Application Materials

An Application Kit containing program application materials will be made available to eligible institutions upon request. These materials include all the application and budget forms, instructions, and other relevant information needed to prepare and submit grant applications. Copies of the Application Kit may be requested from the Proposal Services Unit; Office of Extramural Programs; Cooperative State Research, Education, and Extension Service; U.S. Department of Agriculture; STOP 2245; 1400 Independence Avenue, SW.; Washington, DC 20250-2245. The telephone number is (202) 401-5048. When contacting the Proposal Services Unit, please indicate that you are requesting forms for the FY 2001 Alaska Native-Serving and Native Hawaiian-Serving Institutions Education Grants Program.

Application materials may also be requested via Internet by sending a message with your name, mailing address (not e-mail) and telephone number to psb@reeusda.gov that states that you wish to receive a copy of the application materials for the FY 2001 Alaska Native-Serving and Native Hawaiian-Serving Institutions Education Grants Program. The materials will then be mailed to you (not e-mailed) as quickly as possible.

Q. What To Submit

Each institution must submit the following forms, information, and documentation in an application package so that it arrives on or before the due date stated in this notice:

(1) A Form CSREES-712, “Higher Education Proposal Cover Page,” must be completed in its entirety, and one copy of the form must contain the pen-and-ink signatures of the project director(s) and AOR for the applicant institution;

(2) A “Table of Contents,” for ease in locating information in the application package, must be placed immediately following the proposal cover page;

(3) Documentation of eligibility, or a letter certifying eligibility signed by the AOR, for each institution that is a party to a grant application (i.e., documentation from each of the institutions participating in a consortium grant), as outlined in section E. “Demonstration or Certification of Eligibility” of this notice;

(4) A one page “Project Summary” outlining the need for the project and the plan of work, and including the name of the institution(s), project title, and project director(s);

(5) A detailed “Plan of Work” from the applicant institution (and from each of the other institutions participating in the proposal in the case of a consortium grant) limited to ten, double-spaced pages for each eligible institution that is a party to the grant application containing: (a) A general statement of the institution's long-range goals and how the proposed project aligns with those goals; (b) a statement detailing the higher education needs the project will address; (c) the objectives of the proposed project; (d) a justification for the project explaining how the proposed project will help the institution enhance its academic programs, and promote and strengthen its abilities to carry out higher education programs in the food and agricultural sciences as outlined in this notice; (e) a detailed explanation of the procedures that will be used to achieve the project objectives; (f) a description of the personnel who will conduct the project, including an outline of who will be responsible for each activity; (g) a detailed timeline showing the schedule for conducting the project; (h) the criteria and procedures to be used for tracking the progress and accomplishments of the project, including any data and methodologies that will be used to analyze the extent to which project objectives were met; (i) a list of expected project outcomes and products, including new courses, videos, CDs, other teaching materials, etc. and (j) plans for disseminating anticipated products and outcomes resulting from the project.

(6) A résumé or curriculum vita (C.V.) for each faculty member or staff person contributing significantly to the project (Form CSREES-708, “Summary Vita” may be used for this purpose);

(7) A Form CSREES-713, “Higher Education Budget” for each year of requested support, including budget forms for the lead institution and each consortium member for a consortium grant proposal;

(8) A summary budget, for multi-year and consortium projects, detailing requested support for the overall project period (use Form CSREES-713, “Higher Education Budget”);

(9) A “Budget Narrative” providing detailed explanation and justification for each requested budget line item;

(10) A completed Form CSREES-663, “Current and Pending Support” for each key person who will be working on the project;

(11) A Form CSREES-1234, “National Environmental Policy Act Exclusions Form” covering planned project activities; and

(12) A Form CSREES-662, “Assurance Statement(s)” covering planned project activities.

Supplemental material such as photographs, journal reprints, brochures, and other pertinent materials deemed to be illustrative of major points of the proposal but unsuitable for inclusion in the proposal narrative itself, may be placed in an “Appendix” and attached to the end of the proposal.

R. Number of Copies to Submit

An original and six (6) copies of a proposal must be submitted. Proposals should contain all requested information when submitted. Each proposal should be typed on 8½″ x 11″ white paper, double-spaced, and on one side of the page only. Please note that the text of the proposal should be prepared using no type smaller than 12 point font size and one-inch margins. The entire proposal should be paginated. All copies of the proposal must be submitted in one package. Each copy of the proposal must be stapled securely in the upper left-hand corner (Do not bind).

S. Where and When To Submit

Hand-delivered proposals (brought in person by the applicant or through a courier service) must be received on or before 5 P.M. July 6, 2001, at the following address: Alaska Native-Serving and Native Hawaiian-Serving Institutions Education Grants Program; c/o Proposal Services Unit; Office of Extramural Programs; Cooperative State Research, Education, and Extension Service; U.S. Department of Agriculture; Room 1307, Waterfront Centre; 800 9th Street, SW., Washington, DC 20024. The telephone number is (202) 401-5048. Proposals transmitted via a facsimile (fax) machine will not be accepted.

Proposals submitted through the U.S. Postal Service must be received on or before 5 P.M. July 6, 2001. Proposals submitted through the U.S. Postal Service should be sent to the following address: Alaska Native-Serving and Native Hawaiian-Serving Institutions Education Grants Program; c/o Proposal Services Unit; Office of Extramural Programs; Cooperative State Research, Education, and Extension Service; U.S. Department of Agriculture; STOP 2245; 1400 Independence Avenue, SW., Washington, DC 20250-2245. The telephone number is (202) 401-5048.

T. Acknowledgment of Proposals

The receipt of all proposals will be acknowledged by e-mail, therefore applicants are encouraged to provide e-mail addresses, where designated, on the Form CSREES-661. The acknowledgment will contain an identifying proposal number. Once your proposal has been assigned a proposal number, please cite that number in future correspondence. If the applicant does not receive an acknowledgment within 60 days of the submission deadline, please contact the person listed in the For Further Information section of this notice.

U. Intent To Submit a Proposal

For the FY 2001 competition, Form CSREES-711, “Intent to Submit a Proposal,” is NOT requested or required for the Alaska Native-Serving and Native Hawaiian-Serving Institutions Education Grants Program.

V. Applicable Regulations and Other Federal Statutes

Several other Federal statutes and regulations apply to grant proposals considered for review and to project grants awarded under this program. These include but are not limited to:

7 CFR Part 1, subpart A—USDA implementation of Freedom of Information Act

7 CRF Part 1b—USDA Implementation of the National Environmental Policy Act

7 CFR Part 3—USDA implementation of OMB Circular No. A-129 regarding debt collection

7 CFR Part 15, subpart A—USDA implementation of Title VI of the Civil Rights Act of 1964

7 CFR Part 3015—USDA Uniform Federal Assistance Regulations, implementing OMB directives (i.e. Circular Nos. A-21 and A-122) and incorporating provisions of 31 U.S.C. 6301-6308, as well as general policy requirements applicable to recipients of Departmental financial assistance

7 CFR Part 3017, as amended—USDA Implementation of Governmentwide Debarment and Suspension (Nonprocurement) and Governmentwide Requirements for Drug-Free Workplace (Grants)

7 CFR Part 3018—USDA Implementation of Restrictions on Lobbying

7 CFR Part 3019—USDA Uniform Administrative Requirements for Grants and Agreements With Institutions of Higher Education, Hospitals, and Other Nonprofit Organizations

7 CFR Part 3052—USDA implementation of OMB Circular No. A-133, Audits of States, Local Governments, and Other Nonprofit Organizations

29 U.S.C. 794 (section 504, Rehabilitation Act of 1973) and 7 CFR Part 15B (USDA implementation of statute)—prohibiting discrimination based upon physical or mental handicap in Federally assisted programs.

35 U.S.C. 200 et seq.—Bayh-Dole Act, controlling allocation of rights to inventions made by employees of small business firms and domestic nonprofit organizations, including universities, in Federally assisted programs (implementing regulations are contained in 37 CFR Part 401).

Done at Washington, DC, this 2nd day of May, 2001.
Colien Hefferan,
Administrator, Cooperative State Research, Education, and Extension Service.

[FR Doc. 01-11818 Filed 5-9-01; 8:45 am]

BILLING CODE 3410-22-P